FEDERAL ELECTION COMMISSION

Sunshine Act Meeting

FEDERAL REGISTER CITATION NOTICE OF PREVIOUS ANNOUNCEMENT: 87 FR 15422.

PREVIOUSLY ANNOUNCED TIME AND DATE OF THE MEETING: Thursday, March 24, 2022 at 10:00 a.m.

CHANGES IN THE MEETING: The following matters were also considered:

REG 2015-04 (Citizens United II)—Draft Notice of Disposition

REG 2014-09 (Federal Contractors)—Draft Notice of Disposition

CONTACT PERSON FOR MORE INFORMATION: Judith Ingram, Press Officer, Telephone: (202) 694-1220.

Authority: Government in the Sunshine Act, 5 U.S.C. 552b.

Vicktoria J. Allen,
Acting Deputy Secretary of the Commission.

[FR Doc. 2022-06606 Filed 3-24-22; 4:15 pm]

BILLING CODE 6715-01-P